DEPARTMENT OF THE INTERIOR

Bureau of Land Management

43 CFR Part 4100

[WO-220-1020-24 1A]

RIN 1004-AD42

Grazing Administration—Exclusive of Alaska

Correction

In proposed rule document 03-30264 beginning on page 68452 in the issue of December 8, 2003, make the following correction:

§4120.3-2 [Corrected]

On page 68470, in the third column, in §4120.3-2(b), in the sixth line, “February 6, 2004” should read “[Insert date 60 days after publication of final rule in the Federal Register].”

[FR Doc. C3-30264 Filed 6-18-04; 8:45 am]

BILLING CODE 1505-01-D

DEPARTMENT OF TRANSPORTATION

Federal Aviation Administration

14 CFR Part 73

[Docket No. FAA-2003-15410; Airspace Docket No. 03-AAL-1]

RIN 2120-AA66

Establishment of Restricted Area 2204, Oliktok Point; AK

Correction

In rule document 04-12063 beginning on page 30576 in the issue of Friday, May 28, 2004, make the following correction:

§73.22 [Corrected]

On page 30577, in the first column, in §73.22, under the heading R-2204 Oliktok Point, AK (New), in the first paragraph, in the second line, the latitude coordinates should read, “lat. 70°30′35″”.

[FR Doc. C4-12063 Filed 6-18-04; 8:45 am]

BILLING CODE 1505-01-D